ADVISORY COUNCIL ON HISTORIC PRESERVATION

Notice of Meeting

AGENCY: Advisory Council on Historic Preservation.

ACTION: Notice of meeting.

SUMMARY: Notice is hereby given that the Advisory Council on Historic Preservation will meet on Friday, March 16, 2001. The meeting will be held in the Quapaw Parlor, The Capital Hotel, 1111 West Markham Street, Little Rock, Arkansas, beginning at 8:30 a.m.

The Council was established by the National Historic Preservation Act of 1966 (16 U.S.C. 470) to advise the President and the Congress on matters relating to historic preservation and to comment upon Federal, federally assisted, and federally licensed undertakings having an effect upon properties listed in or eligible for inclusion in the National Register of Historic Places. The Council's members are the Architect of the Capitol; the Secretaries of the Interior, Agriculture, Housing and Urban Development, and Transportation; the Administrators of the Environmental Protection Agency and General Services Administration; the Chairman of the National Trust for Historic Preservation; the President of the National Conference of State Historic Preservation Officers; a Governor; a Mayor; a Native Hawaiian; and eight non-Federal members appointed by the President.

The agenda for the meeting includes the following:

I. Chairman's Welcome

II. Swearing-In Ceremony

III. Chairman's Report

IV. Policy Issues

A. Council Agenda for 2001—Action

B. Preservation Initiatives for the Administration and Congress—Action

V. Improving Federal Stewardship

A. Task Force on Balancing Cultural and Natural Values in National Parks—Action

B. Proposed Alternate Section 106 Procedures for the Army—Report

C. Council Report on Manhattan Project Historic Properties—Action

D. Preservation and the Military Construction Process—Action

E. Historic Preservation Awards—Action

VI. Section 106 Issues

A. Cellular Communications Towers and Section 106—Report

B. Small Federal Handles: Review of Federal Permits—Action

VII. Executive Director's Report

A. Major Section 106 Cases—Report and Possible Action

VIII. New Business

IX. Adjourn

Note: The meetings of the Council are open to the public. If you need special accommodations due to a disability, please contact the Advisory Council on Historic Preservation, 1100 Pennsylvania Ave., NW., Room 809, Washington, DC 20004, 202-606-8503, at least seven (7) days prior to the meeting.

For further information contact: Additional information concerning the meeting is available from the Executive Director, Advisory Council on Historic Preservation, 1100 Pennsylvania Ave., NW., #809, Washington, DC 20004, 202-606-8503.

Dated: March 6, 2001.
John M. Fowler,
Executive Director.

[FR Doc. 01-5886 Filed 3-8-01; 8:45 am]

BILLING CODE 4310-10-M